DEPARTMENT OF EDUCATION

National Advisory Committee on Institutional Quality and Integrity (NACIQI)

AGENCY: National Advisory Committee on Institutional Quality and Integrity, Office of Postsecondary Education, U.S. Department of Education.

ADDRESSES: U.S. Department of Education, Office of Postsecondary Education, 1990 K Street NW., Room 8072, Washington, DC 20006.

ACTION: Announcement of an open meeting of the National Advisory Committee on Institutional Quality and Integrity (NACIQI) and information pertaining to members of the public submitting third-party written and oral comments.

NACIQI'S Statutory Authority and Function: The NACIQI is established under Section 114 of the HEA of 1965, as amended, 20 U.S.C. 1011c. The NACIQI advises the Secretary of Education about:

• The establishment and enforcement of the criteria for recognition of accrediting agencies or associations under Subpart 2, Part H, Title IV, of the HEA, as amended.

• The recognition of specific accrediting agencies or associations or a specific State approval agency.

• The preparation and publication of the list of nationally recognized accrediting agencies and associations.

• The eligibility and certification process for institutions of higher education under Title IV, of the HEA, together with recommendations for improvement in such process.

• The relationship between (1) accreditation of institutions of higher education and the certification and eligibility of such institutions, and (2) State licensing responsibilities with respect to such institutions.

• Any other advisory function relating to accreditation and institutional eligibility that the Secretary may prescribe.

SUMMARY: This notice sets forth the agenda for the December 12-13, 2013 meeting of the National Advisory Committee on Institutional Quality and Integrity (NACIQI); and provides information to members of the public on submitting written comments and on requesting to make oral comments at the meeting. The notice of this meeting is required under Section 10(a)(2) of the Federal Advisory Committee Act (FACA) and Section 114(d)(1)(B) of the Higher Education Act (HEA) of 1965, as amended.

Meeting Date and Place: The NACIQI meeting will be held on December 12-13, 2013, from 8 a.m. to 5:30 p.m. at a location to be determined in the Washington DC area. The exact location will be published in the Federal Register and on the Department's Web site at http://www2.ed.gov/about/bdscomm/list/naciqi.html#meetings by November 6, 2013.

Meeting Agenda: Below is a list of agencies, including their current and requested scopes of recognition, scheduled for review during the December 12-13, 2013 meeting:

Petition for Initial Recognition

Accrediting Agency

1. Association of Institutions for Jewish Studies (AIJS) (Requested Scope: The accreditation of postsecondary institutions of Jewish Studies within the United States offering educational programs leading to a certificate, associate, or baccalaureate degree.)

Petitions for Continued Recognition

Accrediting Agencies

1. Council on Accreditation of Nurse Anesthesia Educational Programs(COANAEP) (Current and Requested Scope: The accreditation of institutions and programs of nurse anesthesia at the post master's certificate, master's, or doctoral degree levels in the United States, including programs offering distance education.)

2. Council on Education for Public Health (CEPH) (Current and Requested Scope: The accreditation within the United States of schools of public health and public health programs outside schools of public health, at the baccalaureate and graduate degree levels, including those offered via distance education.)

3. Northwest Commission on Colleges and Universities (NWCCU) (Current and Requested Scope: The accreditation and preaccreditation (“Candidacy Status”) of postsecondary degree-granting educational institutions in Alaska, Idaho, Montana, Nevada, Oregon, Utah, and Washington, including the accreditation of programs offered via distance education within these institutions.)

4. Western Association of Schools and Colleges, Accrediting Commission for Community and Junior Colleges (WASC-ACCJC) (Current Scope: The accreditation and preaccreditation (“Candidate for Accreditation”) of two-year, associate degree-granting institutions located in California, Hawaii, the United States territories of Guam and American Samoa, the Republic of Palau, the Federated States of Micronesia, the Commonwealth of the Northern Mariana Islands, and the Republic of the Marshall Islands, including the accreditation of such programs offered via distance education at these colleges.) (Requested Scope: The accreditation and preaccreditation (“Candidate for Accreditation”) of community and other two-year colleges located in California, Hawaii, the United States territories of Guam and American Samoa, the Republic of Palau, the Federated States of Micronesia, the Commonwealth of the Northern Mariana Islands, and the Republic of the Marshall Islands, which offer the associate degree and may offer certificates and limited bachelor's degrees, and the accreditation of such programs offered via distance education and correspondence education at these colleges.)

State Approval Agency for Nurse Education

1. North Dakota Board of Nursing (NDBN)

Petitions for Recognition Based on a Compliance Report

Accrediting Agencies

1. American Podiatric Medical Association (APMA) (Current Scope: The accreditation and preaccreditation (“Provisional Accreditation”) throughout the United States of freestanding colleges of podiatric medicine and programs of podiatric medicine, including first professional program leading to the degree of Doctor of Podiatric Medicine.) (Requested Scope: The accreditation and preaccreditation (“Candidate Status” and “Provisional Accreditation”) throughout the United States of freestanding colleges of podiatric medicine and programs of podiatric medicine, including first professional programs leading to the degree of Doctor of Podiatric Medicine.)

2. Association for Clinical Pastoral Education, Inc. (ACPEI) (Current and Requested Scope: The accreditation of both clinical pastoral education (CPE) centers and supervisory CPE programs located within the United States and territories.)

3. Commission on English Language Program Accreditation (CEA) (Current and Requested Scope: The accreditation of postsecondary, non-degree-granting English language programs and institutions in the United States.)

4. Council on Chiropractic Education (CCE) (Current and Requested Scope: The accreditation of programs leading to the Doctor of Chiropractic degree and single-purpose institutions offering the Doctor of Chiropractic program.)

5. Joint Review Committee on Education in Radiologic Technology (JRCERT) (Current and Requested Scope: The accreditation of education programs in radiography, magnetic resonance, radiation therapy, and medical dosimetry, including those offered via distance education, at the certificate, associate, and baccalaureate levels.)

6. Montessori Accreditation Council for Teacher Education (MACTE) (Current and Requested Scope: The accreditation of Montessori teacher education institutions and programs throughout the United States, including those offered via distance education.)

State Approval Agency for Nurse Education

1. New York State Board of Regents, State Education Department, Office of the Professions (Nursing Education) (NYBRN)

State Approval Agencies for Vocational Education

1. New York State Board of Regents, State Education Department, Office of the Professions (Public Postsecondary Vocational Education, Practical Nursing)

2. Oklahoma Board of Career and Technology Education (OBCTE)

3. Pennsylvania State Board of Vocational Education, Bureau of Career and Technical Education (PSVBE/BCTE)

Submission of Written Comments: Written comments must be received by September 6, 2013, in the accreditationcommittees@ed.gov mailbox and include the subject line “Written Comments: re (agency name).” The email must include the name, title, affiliation, mailing address, email address, telephone and facsimile numbers, and Web site (if any) of the person/group making the comment. Comments should be submitted as a Microsoft Word document or in a medium compatible with Microsoft Word (not a PDF file) that is attached to an electronic mail message (email) or provided in the body of an email message. Comments about an agency's compliance report must relate to the issues raised and the criteria for recognition cited in the Secretary's letter that requested the report. Comments about the renewal of an agency's recognition must relate to its compliance with the Criteria for the Recognition of Accrediting Agencies, the Criteria and Procedures for Recognition of State Agencies for Approval of Public Postsecondary Vocational Education, or the Criteria and Procedures for Recognition of State Agencies for Approval of Nurse Education, as appropriate, which are available at http://www.ed.gov/admins/finaid/accred/index.html. Third parties having concerns about agencies regarding matters outside the scope of the petition should report those concerns to the Department. Only material submitted by the deadline to the email address listed in this notice, and in accordance with these instructions, become part of the official record concerning agencies scheduled for review and are considered by the Department and the NACIQI in their deliberations. Please do not send material directly to the NACIQI members.

Submission of Requests to Make an Oral Comment: There are two methods the public may use to make a third-party oral comment of three to five minutes concerning one of the agencies scheduled for review at the December 12-13, 2013 meeting. Oral comments about agencies seeking renewal of recognition must relate to the Criteria for Recognition of Accrediting Agencies, the Criteria and Procedures for Recognition of State Agencies for Approval of Public Postsecondary Vocational Education, or the Criteria and Procedures for Recognition of State Agencies for Approval of Nurse Education, as appropriate, which are available at: http://www.ed.gov/admins/finaid/accred/index.html.

Method One: Submit a request by email to the accreditationcommittees@ed.gov mailbox. Please do not send material directly to NACIQI members. Requests must be received by September 6, 2013, and include the subject line “Oral Comment Request: re (agency name).” The email must include the name, title, affiliation, mailing address, email address, telephone and facsimile numbers, and Web site (if any) of the person/group requesting to speak. All individuals or groups submitting an advance request in accordance with this notice will be afforded an opportunity to speak. Comments may not exceed three minutes, except at the discretion of the NACIQI Chair exercised on a case-by-case basis during the meeting. Each request must concern the recognition of a single agency or institution tentatively scheduled in this notice for review, be no more than one page (maximum), and must include:

1. The name, title, affiliation, mailing address, email address, telephone and facsimile numbers, and Web site (if any) of the person/group requesting to speak; and,

2. A brief summary of the principal points to be made during the oral presentation.

Method Two: Register at the meeting location on December 12, 2013, to make an oral comment during the NACIQI's deliberations concerning a particular agency or institution scheduled for review. The requestor must provide his or her name, title, affiliation, mailing address, email address, telephone and facsimile numbers, and Web site (if any). A total of up to fifteen minutes during each agency review will be allotted for oral commenters who register on December 12, 2013. Individuals or groups will be selected on a first-come, first-served basis. If selected, each commenter may not exceed three minutes, depending on the number of individuals or groups who signed up on December 12, 2013, to make oral comments, except at the discretion of the NACIQI Chair exercised on a case-by-case basis.

If a person or group requests, in advance, to make comments they cannot also register for an oral presentation opportunity on December 12, 2013. The oral comments made will become part of the official record and will be considered by the Department and NACIQI in their deliberations. No individual or group in attendance or making oral presentations may distribute written materials at the meeting.

Access to Records of the Meeting: The Department will post the official report of the meeting on the NACIQI Web site 90 days after the meeting. Pursuant to the FACA, the public may also inspect the materials at 1990 K Street NW., Washington, DC, by emailing aslrecordsmanager@ed.gov or by calling (202) 219-7067 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

FOR FURTHER INFORMATION CONTACT: Carol Griffiths, Executive Director, NACIQI, U.S. Department of Education, 1990 K Street NW., Room 8073, Washington, DC 20006-8129, telephone: (202) 219-7035, fax: (202) 219-7005, or email Carol.Griffiths@ed.gov.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Delegation of Authority: The Secretary of Education has delegated authority to Lynn B. Mahaffie, Acting Deputy Assistant Secretary for Policy, Planning, and Innovation, to perform the functions and duties of the Assistant Secretary for Postsecondary Education.

Lynn B. Mahaffie,
Acting Deputy Assistant Secretary for Policy, Planning, and Innovation, delegated the authority to perform the functions and duties of the Assistant Secretary for Postsecondary Education.

[FR Doc. 2013-20171 Filed 8-16-13; 8:45 am]

BILLING CODE P